DEPARTMENT OF ENERGY

Federal Energy Regulatory Commission

Combined Notice of Filings #1

Take notice that the Commission received the following electric rate filings:

Docket Numbers: ER10-1836-003; ER12-2227-001; ER10-1952-001; ER10-1971-007; ER10-2005-003; ER11-26-003; ER10-1838-002; ER10-1839-003; ER10-2551-002; ER10-1915-002; ER12-569-003; ER10-1841-003; ER13-712-002; ER10-1843-003; ER10-1845-003; ER10-1844-003; ER10-1846-002; ER10-1847-002; ER10-1849-002; ER11-2037-002; ER10-1851-001; ER10-1852-003; ER10-1855-002; ER10-1856-002; ER10-1857-002; ER10-1887-002; ER10-1890-002; ER10-1897-003; ER10-1899-002; ER10-1900-002; ER10-1902-002; ER11-2192-003; ER10-1989-002; ER10-1990-002 ER10-1991-003; ER12-1660-003; ER11-4678-003; ER10-1992-002; ER10-1993-002; ER10-1994-002; ER10-2078-004 ER10-1995-002; ER12-631-003; ER10-1903-002; ER11-2160-002; ER10-1905-003; ER10-1906-002; ER10-1907-003 ER10-1918-003; ER10-1920-004; ER10-1925-003; ER10-1927-003; ER10-1928-004; ER11-2642-003; ER12-676-002 ER10-1986-002; ER10-1985-002; ER11-2365-003; ER10-1984-003; ER10-1983-003; ER10-1976-002; ER12-2444-001 ER10-1975-009; ER10-1974-009; ER12-1228-002; ER10-1963-002; ER10-1964-003; ER10-1965-003; ER12-2226-001 ER12-2225-001; ER10-1966-002; ER10-1967-002; ER10-1968-002; ER10-2720-004; ER10-1930-001; ER10-1931-001 ER10-1932-002; ER10-1935-002; ER10-1948-001; ER10-1950-003; ER11-3635-002; ER10-2006-004; ER10-1961-002 ER10-1962-002; ER11-4428-004; ER12-1880-003; ER12-895-002; ER11-4462-004; ER10-1970-003; ER11-4677-003 ER10-1972-003; ER10-1973-002; ER10-1951-003

Applicants: Ashtabula Wind, LLC, Ashtabula Wind, LLC, Ashtabula Wind II, LLC, Ashtabula Wind III, LLC, Backbone Mountain Windpower, LLC, Badger Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Diablo Winds, LLC, Elk City Wind, LLC, Elk City II Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Maine Hydro, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C., FPL Energy Wyman, LLC, FPL Energy Wyman IV, LLC, FPL Energy Wyoming, LLC, Garden Wind, LLC, Hatch Solar Energy Center I, LLC Hawkeye Power Partners, LLC, High Majestic Wind Energy Center, LLC, High Winds, LLC, High Majestic Wind II, LLC Jamaica Bay Peaking Facility, LLC, Lake Benton Power Partners II, LLC, Langdon Wind, LLC, Limon Wind, LLC Limon Wind II, LLC, Logan Wind Energy LLC, Meyersdale Windpower LLC, Mill Run Windpower, LLC, Minco Wind, LLC, Minco Wind II, LLC, Minco Wind III, LLC, Minco Wind Interconnection Services, LLC, NEPM II, NextEra Energy Duane Arnold, LLC, NextEra Energy Montezuma II Wind, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Story Wind, LLC, Tuscola Bay Wind, LLC, Vasco Winds, LLC, Victory Garden Phase IV, LLC, Waymart Wind Farm, L.P. Wessington Wind Energy Center, LLC, White Oak Energy LLC, Wilton Wind II, LLC, Windpower Partners 1993, LLC

Description: Amendment to December 17, 2012 NextEra Resources Entities' Notification of Non-material Change in Status and Subsidiary Name Change.

Filed Date: 02/04/2013.

Accession Number: 20130204-5165.

Comments Due: 5 p.m. ET 2/25/13.

Docket Numbers: ER10-2194-002.

Applicants: Luminant Energy Company LLC.

Description: Luminant Energy Company LLC hereby files an updated version of Attachment A-2, which Luminant originally submitted with its Petition for Determination of Status as a Category 1 Seller Pursuant to Order #697.

Filed Date: 1/22/13.

Accession Number: 20130122-5385.

Comments Due: 5 p.m. ET 2/12/13.

Docket Numbers: ER12-682-000.

Applicants: Erie Wind, LLC.

Description: Refund Report to be effective N/A.

Filed Date: 11/13/12.

Accession Number: 20121113-5193.

Comments Due: 5 p.m. ET 2/26/13.

Docket Numbers: ER13-474-001.

Applicants: Fitchburg Gas and Electric Light Company, ISO New England Inc.

Description: Fitchburg Gas and Electric Compliance Filing to be effective 11/30/2012.

Filed Date: 2/5/13.

Accession Number: 20130205-5011.

Comments Due: 5 p.m. ET 2/26/13.

Docket Numbers: ER13-752-001.

Applicants: Energy Storage Holdings, LLC.

Description: Amendment to Energy Storage Holdings, LLC MBR Application to be effective 1/12/2013.

Filed Date: 2/4/13.

Accession Number: 20130204-5135.

Comments Due: 5 p.m. ET 2/25/13.

Docket Numbers: ER13-871-001.

Applicants: Midwest Independent Transmission System Operator, Inc.

Description: Midwest Independent Transmission System Operator, Inc. submits tariff filing per 35.17(b): 2013-02-05 SA 2506 ITC-Pheasant Run to be effective 1/3/2013.

Filed Date: 2/5/13.

Accession Number: 20130205-5063.

Comments Due: 5 p.m. ET 2/26/13.

Docket Numbers: ER13-881-000.

Applicants: Midwest Independent Transmission System Operator, Inc.

Description: 2013-02-04 SA 2508 Northstar Wind-Pheasant Ridge-MidAmerican to be effective 2/5/2013.

Filed Date: 2/4/13.

Accession Number: 20130204-5113.

Comments Due: 5 p.m. ET 2/25/13.

Docket Numbers: ER13-882-000.

Applicants: PPL EnergyPlus, LLC.

Description: Request for Waiver, Shortened Comment Period, and Expedited Consideration of PPL EnergyPlus, LLC.

Filed Date: 2/4/13.

Accession Number: 20130204-5163.

Comments Due: 5 p.m. ET 2/19/13.

Docket Numbers: ER13-883-000.

Applicants: Green Energy Partners/Stonewall LLC.

Description: Request for Limited Tariff Waiver and Request for Expedited Action of Green Energy Partners/Stonewall LLC under ER13-883.

Filed Date: 2/4/13.

Accession Number: 20130204-5164.

Comments Due: 5 p.m. ET 2/11/13.

Docket Numbers: ER13-884-000.

Applicants: Southwest Power Pool, Inc.

Description: Southwest Power Pool, Inc. submits Notice of Cancellation of Large Generator Interconnection Agreement with Happy Whiteface Wind, LLC, et al.

Filed Date: 2/5/13.

Accession Number: 20130205-5072.

Comments Due: 5 p.m. ET 2/26/13.

Docket Numbers: ER13-885-000.

Applicants: Consolidated Edison Company of New York, Inc.

Description: Consolidated Edison Company of New York, Inc. submits Notice of Cancellation of Rate Schedule No. 66 with the Power Authority of the State of New York.

Filed Date: 2/5/13.

Accession Number: 20130205-5088.

Comments Due: 5 p.m. ET 2/26/13.

Take notice that the Commission received the following electric securities filings:

Docket Numbers: ES13-13-000.

Applicants: Midwest Independent Transmission System Operator, Inc.

Description: Amendment to January 4, 2013 Section 204 Application of Midwest Independent Transmission System Operator, Inc.

Filed Date: 1/31/13.

Accession Number: 20130131-5403.

Comments Due: 5 p.m. ET 2/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2013.
Nathaniel J. Davis, Sr.,
Deputy Secretary.

[FR Doc. 2013-03154 Filed 2-11-13; 8:45 am]

BILLING CODE 6717-01-P